DEPARTMENT OF HEALTH AND HUMAN SERVICES

Health Resources and Services Administration

Agency Information Collection Activities: Submission to OMB for Review and Approval; Public Comment Request; Nurse Corps Loan Repayment Program, OMB No. 0915-0140—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 12, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Nurse Corps Loan Repayment Program, OMB No. 0915-0140—Revision.

Abstract: The Nurse Corps Loan Repayment Program (LRP) assists in the recruitment and retention of professional Registered Nurses (RNs), including Advanced Practice Registered Nurses (APRNs), by decreasing the financial barriers associated with pursuing a nursing education. RNs in this instance include APRNs (e.g., nurse practitioners, certified registered nurse anesthetists, certified nurse-midwives, and clinical nurse specialists) dedicated to working at eligible health care facilities with a critical shortage of nurses (i.e., a Critical Shortage Facility) or working as nurse faculty in eligible, accredited schools of nursing. The Nurse Corps LRP provides loan repayment assistance to these nurses to repay a portion of their qualifying educational loans in exchange for a minimum of 2 years of full-time service at a public or private Critical Shortage Facility or in an eligible, accredited school of nursing.

A 60-day notice published in the Federal Register on May 15, 2025, vol. 90, No. 93; pp. 20679-80. There were no public comments. After publication of the 60-day notice, HRSA determined that the Disadvantaged Background Form is not needed for purposes of this information collection request. This determination was made because the Nurse Corps LRP Application already verifies that at least 50 percent of students enrolled in the school where nurse faculty participants will serve are from a disadvantaged background. Removing this form will decrease applicant burden and prevent confusion about program requirements. The estimated burden table below has been revised accordingly.

Need and Proposed Use of the Information: Individuals must submit an application in order to participate in the program. The application asks for personal, professional, educational, and financial information required to determine the applicant's eligibility to participate in the Nurse Corps LRP. An Employment Verification Form verifies the applicant's name and address of the Critical Shortage Facility or eligible school of nursing where they will serve their service commitment, which must be completed by the appropriate official or authorized point of contact at the Critical Shortage Facility or school of nursing. This information collection is used by the Nurse Corps program to make award decisions about Nurse Corps LRP applicants and to monitor a participant's compliance with the program's service requirements. The Nurse Corps LRP is requesting a revision and is seeking to use the previously approved forms. There is a decrease in the estimated annual burden due to the elimination of the Disadvantaged Background Form and fewer anticipated respondents among Nurse LRP applicants.

Likely Respondents: Professional RNs or APRNs who are interested in participating in the Nurse Corps LRP, and official representatives at their service sites.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The estimates of reporting for applicants are as follows:

Total Estimated Annualized Burden Hours for the STAR LRP
Form name | Number of respondents | Number of responses per respondent | Total responses | Average burden per response (in hours) | Total burden hours
Nurse Corps LRP Application * | 6,450 | 1 | 6,450 | 2.00 | 12,900
Authorization to Release Information Form ** | 6,450 | 1 | 6,450 | 0.10 | 645
Employment Verification Form ** | 6,450 | 1 | 6,450 | 0.10 | 645
Confirmation of Interest Form | 989 | 1 | 989 | 0.20 | 198
Total for Applicants | 6,450 |  | 20,339 |  | 14,388
* The burden hours associated with this instrument account for both new and continuation applications.
** The same respondents are completing these instruments.

The estimates of reporting for Participants are as follows:

Total Estimated Annualized Burden Hours for the Pediatric Specialty LRP
Form name | Number of respondents | Number of responses per respondent | Total responses | Average burden per response (in hours) | Total burden hours
In Service Verification Form | 989 | 2 | 1,978 | 0.50 | 989
Nurse Corps Critical Shortage Facility Verification Form | 989 | 1 | 989 | 0.10 | 99
Nurse Corps Nurse Faculty Employment Verification Form | 388 | 1 | 388 | 0.20 | 78
Total for Participants | 989 |  | 3,355 |  | 1,166

The total estimates for Applicants and Participants are as follows:

Form name | Number of respondents | Number of responses per respondent | Total responses | Average burden per response (in hours) | Total burden hours
Total for Applicants and Participants | 7,439 |  | 23,694 |  | 15,554

Maria G. Button,
Director, Executive Secretariat.

[FR Doc. 2025-15358 Filed 8-12-25; 8:45 am]

BILLING CODE 4165-15-P